DEPARTMENT OF ENERGY

Federal Energy Regulatory Commission

[Docket No. RP98-42-020]

ANR Pipeline Co.; Notice of Settlement Agreement

April 10, 2001.

Take notice that on April 5, 2001, ANR Pipeline Company (ANR), Chevron U.S.A. Inc., Pioneer Natural Resources USA, Inc. (successor-in-interest to Mesa Petroleum Company), ONEOK Resources Company (successor to ONEOK Exploration Company), BP Exploration and Oil, Inc., Kennedy & Mitchell (wholly-owned subsidiary of Harken Energy Corporation), John F. Mitchell, Beren Corporation, Pickrell Drilling Company and Mid-Continent Energy Corporation (collectively referred to as Signatory Parties) filed a Stipulation and Agreement (Settlement) under Rule 602 of the Commission's Rules of Practice and Procedure in the captioned docket. A copy of the Settlement is available for public inspection in the Commission's Public Reference Room and may be viewed on the web at http://www.ferc.fed.us/online/rims.htm (call 202-208-2222 for assistance).

Signatory Parties state that the Settlement eliminates 49 of ANR's 56 refund claims and significantly reduces the refund burden of the remaining producers or working interest owners. Specifically, the Settlement will result in the full and complete discharge of each signatory producer or working interest owner from all liability for refunds to ARN attributable to reimbursements of Kansas ad valorem taxes, the release of each signatory producer or working interest owner's claims against its royalty owners with respect to refunds on ANR's system, and the termination of all related proceedings pending before the Commission as they relate to ANR's refund claims. Finally, the Settlement will result in total net refunds to ANR of $339,588, which represents ANR's forgiveness of 70% of the total refunds it calculated to be due.

Initial comments are due April 17, 2001; reply comments are due April 24, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-9299 Filed 4-13-01; 8:45 am]

BILLING CODE 6717-01-M